INTERNATIONAL TRADE COMMISSION

[Investigation Nos. 701-TA-636 and 731-TA-1470 (Final)]

Wood Mouldings and Millwork Products From China; Determinations

On the basis of the record ¹ developed in the subject investigations, the United States International Trade Commission (“Commission”) determines, pursuant to the Tariff Act of 1930 (“the Act”), that an industry in the United States is materially injured by reason of imports of wood mouldings and millwork products from China, primarily provided for in subheadings 4409.10.40, 4409.10.45, 4409.10.50, 4409.22.40, 4409.22.50, 4409.29.41, and 4409.29.51 of the Harmonized Tariff Schedule of the United States, that have been found by the U.S. Department of Commerce (“Commerce”) to be sold in the United States at less than fair value (“LTFV”), and to be subsidized by the government of China.²

¹ The record is defined in § 207.2(f) of the Commission's Rules of Practice and Procedure (19 CFR 207.2(f)).

² Vice Chair Randolph J. Stayin not participating.

Background

The Commission instituted these investigations effective January 8, 2020, following receipt of petitions filed with the Commission and Commerce by the Coalition of American Millwork Producers (Bright Wood Corporation, Madras, Oregon; Cascade Wood Products, Inc., White City, Oregon; Endura Products, Inc., Colfax, North Carolina; Sierra Pacific Industries, Red Bluff, California; Sunset Moulding, Live Oak, California; Woodgrain Millwork Inc., Fruitland, Idaho; and Yuba River Moulding, Yuba City, California).³ The final phase of the investigations was scheduled by the Commission following notification of preliminary determinations by Commerce that imports of wood mouldings and millwork products from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 2, 2020 (85 FR 54593). In light of the restrictions on access to the Commission building due to the COVID-19 pandemic, the Commission conducted its hearing through written testimony and video conference on December 22, 2020. All persons who requested the opportunity were permitted to participate.

³ During the final phase of the investigations, Best Moulding Corporation, Albuquerque, New Mexico; Menzner Lumber and Supply Company, Marathon, Wisconsin; and Pacific Wood Laminates, Brookings, Oregon, joined the Coalition of American Millwork Producers.

The Commission made these determinations pursuant to §§ 705(b) and 735(b) of the Act (19 U.S.C. 1671d(b) and 19 U.S.C. 1673d(b)). It completed and filed its determinations in these investigations on February 10, 2021. The views of the Commission are contained in USITC Publication 5157 (February 2021), entitled Wood Mouldings and Millwork Products From China: Investigation Nos. 701-TA-636 and 731-TA-1470 (Final).

By order of the Commission.
Issued: February 10, 2021.
Lisa Barton,
Secretary to the Commission.

[FR Doc. 2021-03100 Filed 2-16-21; 8:45 am]

BILLING CODE 7020-02-P